DEPARTMENT OF HOMELAND SECURITY

Coast Guard

[Docket No. USCG-2024-0431]

National Commercial Fishing Safety Advisory Committee; September 2024 Meetings

AGENCY: U.S. Coast Guard, Department of Homeland Security.

ACTION: Notice of open Federal advisory committee meetings.

SUMMARY: The National Commercial Fishing Safety Advisory Committee (Committee) will conduct a series of meetings over two days to review, discuss, and make recommendations to the Secretary on matters relating to marine investigation cases and other relevant initiatives pertaining to commercial fishing vessels (CFVs). For more detailed information see section VI below.

DATES:

Meetings: The Committee will hold a meeting on Tuesday, September 10, 2024, from 9 a.m. until 5 p.m. Alaska Daylight Time (AKDT), and Wednesday, September 11, 2024, from 8 a.m. until 5 p.m. AKDT. Please note these meetings may close early if the Committee has completed its business.

Comments and supporting documentation: To ensure your comments are received before the meetings, please submit your written comments no later than September 2, 2024.

ADDRESSES: These meetings will be held at the William A. Eagan Civic & Convention Center 555 W Fifth Avenue, Anchorage, Alaska 99501. https://anchorageconventioncenters.com/egan-center/overview.

The National Commercial Fishing Safety Advisory Committee is committed to ensuring all participants have equal access regardless of disability status. If you require reasonable accommodation due to a disability to fully participate, please email Mr. Jonathan Wendland at Jonathan.G.Wendland@uscg.mil or call at 202-372-1245 as soon as possible.

Instructions: You are free to submit comments at any time, including orally at the meetings as time permits, but if you want your comment reviewed before the meetings, please submit your comments no later than September 2, 2024. We are particularly interested in comments regarding the topics in the “Agenda” section below. We encourage you to submit comments through Federal Decision Making Portal at https://www.regulations.gov. To do so, go to https://www.regulations.gov, type USCG-2024-0431 in the search box and click “Search”. Next, look for this document in the Search Results column, and click on it. Then click on the Comment option. If your material cannot be submitted using https://www.regulations.gov, email the individual in the FOR FURTHER INFORMATION CONTACT section of this document for alternate instructions. You must include the docket number USCG-2024-0431. Comments received will be posted without alteration at https://www.regulations.gov including any personal information provided. You may wish to review the Privacy and Security Notice found via link on the homepage of https://www.regulations.gov, and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Jonathan Wendland, Alternate Designated Federal Officer of the National Commercial Fishing Safety Advisory Committee, telephone 202-372-1245 or Jonathan.G.Wendland@uscg.mil.

SUPPLEMENTARY INFORMATION: Notice of these meetings is in compliance with the Federal Advisory Committee Act, (Pub. L. 117-286, 5 U.S.C. ch. 10). The National Commercial Fishing Safety Advisory Committee was authorized on December 4, 2018, by section 601 of the Frank LoBiondo Coast Guard Authorization Act of 2018, (Pub. L. 115-282, 132 Stat. 4190), and is codified in 46 U.S.C. 15102. The Committee operates under the provisions of the Federal Advisory Committee Act and 46 U.S.C. 15109. The Committee provides advice and recommendations to the Secretary of Homeland Security through the Commandant of the U.S. Coast Guard, on matters relating to the safe operation of vessels including the matters of:

(A) navigation safety;

(B) safety equipment and procedures;

(C) marine insurance;

(D) vessel design, construction, maintenance, and operation; and

(E) personnel qualifications and training;

Additionally, the Committee will review regulations proposed under chapter 45 of Title 46 of U.S Code (during preparation of the regulations) and review marine casualties and investigations of vessels covered by chapter 45 of Title 46 U.S. Code and make recommendations to the Secretary to improve safety and reduce vessel casualties.

Agenda

Day 1 (9 a.m. to 5 p.m. AKDT)

The agenda for the National Commercial Fishing Safety Advisory Committee is as follows:

I. Opening

a. Call to Order/Designated Federal Officer (DFO) Remarks.

b. Roll Call/Determination of Quorum.

c. U.S. Coast Guard Leadership Remarks.

II. Administration

a. Review and Adoption of Meeting Agenda.

b. Meeting Goals.

c. Roberts Rules Simplified.

III. General Updates

a. Old Business.

b. New Business.

IV. U.S. Coast Guard Information Session and Progress Update to Committee

a. Brief: Numbers and types of injuries and deaths caused by rotational and mechanical equipment.

b. Brief: U.S. Coast Guard initiatives with search and rescue operations in and around wind farms.

c. Brief: Very High Frequency (VHF) radio relay tower maintenance and Digital Selecting Calling (DSC) operational status in coastal Alaska.

d. Brief: Fire risks of emerging alternative propulsion technology (e.g., hydrogen, electric batteries etc.) on commercial fishing vessels.

V. Public Comment Period

VI. U.S. Coast Guard Committee Tasking and Investigation Review

a. Task Statement #23-24: Review marine casualty investigations linked to fire and smoke detection devices on Commercial Fishing Vessels (CFVs). Make recommendations to the U.S. Coast Guard.

1. Public Comment Period.

2. Committee Deliberation.

3. Committee Vote on Recommendations Presented.

b. Task Statement #24-24: Review CFV marine casualty investigations cases that resulted from structural failures which resulted in sinking and total loss of the vessel. Make recommendations to the U.S. Coast Guard on preferred standards for material conditions, construction, and design to improve vessel seaworthiness.

1. Public Comment Period.

2. Committee Deliberation.

3. Committee Vote on Recommendations Presented.

c. Task Statement #25-24: Advise the U.S. Coast Guard on whether CFVs should be subject to Safety Management System requirements.

d. Task Statement #26-24: Craft a “NCFSAC Posthumous Special Recognition Award” that recognizes the accomplishments and contributions of an advocate to fishing industry safety.

e. Task Statement #10-23: Continue review of the development of the CG-CVC-3 publicly accessible website that contains information related to fishing industry activities, including vessel safety, inspections, enforcement, hazards, training, and outages of the Rescue 21 system.

VII. Public Comment Period

VIII. Meeting Adjourns

Day 2 (8 a.m. to 5 p.m. AKDT)

IX. Call to Order/Designated Federal Officer (DFO) Remarks

X. Roll Call/Determination of Quorum

XI. Committee Discussions/Actions

XII. Public Comment Period

XIII. Review Voluntary Best Practice Updates

XIV. Annual Election of Chair and Vice Chair

XV. Plans for Next Meeting

XVI. Closing Remarks/Committee and U.S. Coast Guard

XVII. Adjournment of Meeting

A copy of pre-meeting documentation will be available at https://www.dco.uscg.mil/NCFSAC2024/ on or about August 23, 2024. Alternatively, you may contact Mr. Jonathan Wendland as noted in the FOR FURTHER INFORMATION CONTACT section above.

There will be public comment periods scheduled each day of the meeting. Speakers are requested to limit their comments to 3 minutes. Please note that the public comment period may end before the period allotted, following the last call for comments.

Please contact the individual listed in the FOR FURTHER INFORMATION CONTACT section to register as a speaker.

Dated: August 21, 2024.
Amy M. Beach,
Captain, U.S. Coast Guard, Director of Inspections and Compliance.

[FR Doc. 2024-19083 Filed 8-23-24; 8:45 am]

BILLING CODE 9110-04-P